DEPARTMENT OF COMMERCE

Foreign-Trade Zones Board

[Order No. 2039]

Reorganization and Expansion of Foreign-Trade Zone 193 Under Alternative Site Framework; Pinellas County, Florida

Pursuant to its authority under the Foreign-Trade Zones Act of June 18, 1934, as amended (19 U.S.C. 81a-81u), the Foreign-Trade Zones Board (the Board) adopts the following Order:

Whereas, the Foreign-Trade Zones (FTZ) Act provides for “ * * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, Pinellas County, Florida, grantee of Foreign-Trade Zone 193, submitted an application to the Board (FTZ Docket B-50-2016, docketed August 2, 2016) for authority to reorganize and expand under the ASF with a service area of Pinellas, Hernando and Pasco Counties, Florida, in and adjacent to the St. Petersburg Customs and Border Protection port of entry, FTZ 193's existing Sites 1, 2 and 3 would be categorized as magnet sites, and the zone would have four initial usage-driven sites (Sites 4, 5, 6 and 7), with Temporary Site 8 maintaining its current designation;

Whereas, notice inviting public comment was given in the Federal Register (81 FR 52401, August 8, 2016) and the application has been processed pursuant to the FTZ Act and the Board's regulations; and,

Whereas, the Board adopts the findings and recommendations of the examiner's report, and finds that the requirements of the FTZ Act and the Board's regulations are satisfied;

Now, Therefore, the Board hereby orders:

The application to reorganize and expand FTZ 193 under the ASF is approved, subject to the FTZ Act and the Board's regulations, including Section 400.13, to the Board's standard 2,000-acre activation limit for the zone, to an ASF sunset provision for magnet sites that would terminate authority for Sites 2 and 3 if not activated within five years from the month of approval, and to an ASF sunset provision for usage-driven sites that would terminate authority for Sites 4, 5, 6 and 7 if no foreign-status merchandise is admitted for a bona fide customs purpose within three years from the month of approval.

Dated: August 25, 2017.
Gary Taverman,
Deputy Assistant Secretary for AD/CVD Operations performing the non-exclusive functions and duties of the Assistant Secretary for Enforcement & Compliance, Alternate Chairman, Foreign-Trade Zones Board.

[FR Doc. 2017-18903 Filed 9-6-17; 8:45 am]

BILLING CODE 3510-DS-P